DEPARTMENT OF ENERGY

Federal Energy Regulatory Commission

Combined Notice of Filings #1

Take notice that the Commission received the following exempt wholesale generator filings:

Docket Numbers: EG15-124-000.

Applicants: Odell Wind Farm, LLC.

Description: Self-Certification of Exempt Wholesale Generator Status of Odell Wind Farm, LLC.

Filed Date: 9/9/15.

Accession Number: 20150909-5171.

Comments Due: 5 p.m. ET 9/30/15.

Take notice that the Commission received the following electric rate filings:

Docket Numbers: EL15-22-000; ER13-521-002; ER13-520-002; ER13-1442-002; ER13-1441-002; ER13-1273-002; ER13-1272-002; ER13-1271-002; ER13-1270-002; ER13-1269-002; ER13-1268-002; ER13-1267-002; ER13-1266-003; ER12-21-013; ER12-1626-003; ER10-3246-003; ER10-2605-006; ER10-2475-006; ER10-2474-006.

Applicants: Nevada Power Company, Sierra Pacific Power Company, PacifiCorp, Agua Caliente Solar, LLC, Pinyon Pines Wind I, LLC, Pinyon Pines Wind II, LLC, Solar Star California XIX, LLC, Solar Star California XX, LLC, Topaz Solar Farms LLC, CalEnergy, LLC, CE Leathers Company, Del Ranch Company, Elmore Company, Fish Lake Power LLC, Salton Sea Power Generation Company, Salton Sea Power L.L.C., Vulcan/BN Geothermal Power Company, Yuma Cogeneration Associates, MidAmerican Energy Company, Bishop Hill Energy II LLC, Cordova Energy Company LLC, Power Resources, Ltd., Saranac Power Partners, L.P.

Description: Response to Commission Staff Deficiency Letter and Request for Additional Information of BHE MBR Sellers.

Filed Date: 9/4/15.

Accession Number: 20150904-5286.

Comments Due: 5 p.m. ET 9/29/15.

Docket Numbers: ER15-2527-000.

Applicants: Oasis Power, LLC.

Description: Supplement to August 26, 2015 Oasis Power, LLC tariff filing.

Filed Date: 9/8/15.

Accession Number: 20150908-5301.

Comments Due: 5 p.m. ET 9/16/15.

Docket Numbers: ER15-2634-000.

Applicants: Robison Energy (Commercial) LLC.

Description: Baseline eTariff Filing: Robison Energy (Commercial) LLC Market Based Rate Tariff to be effective 10/15/2015.

Filed Date: 9/10/15.

Accession Number: 20150910-5000.

Comments Due: 5 p.m. ET 10/1/15.

Docket Numbers: ER15-2635-000.

Applicants: Southern California Edison Company.

Description: § 205(d) Rate Filing: Certificates of Concuurence ANPP Participation Agmt & Interconnection Agmts to be effective 4/29/2011.

Filed Date: 9/10/15.

Accession Number: 20150910-5002.

Comments Due: 5 p.m. ET 10/1/15.

Docket Numbers: ER15-2636-000.

Applicants: Southwest Power Pool, Inc.

Description: § 205(d) Rate Filing: Attachment X, Article 3 Credit Policy Revisions to be effective 11/9/2015.

Filed Date: 9/10/15.

Accession Number: 20150910-5046.

Comments Due: 5 p.m. ET 10/1/15.

Docket Numbers: ER15-2637-000.

Applicants: Midcontinent Independent System Operator, Inc.

Description: § 205(d) Rate Filing: 2015-09-10_SA 2837 NSP-North Star Solar PV LLC E&P (J385) to be effective 9/11/2015.

Filed Date: 9/10/15.

Accession Number: 20150910-5049.

Comments Due: 5 p.m. ET 10/1/15.

Take notice that the Commission received the following electric securities filings:

Docket Numbers: ES15-69-000.

Applicants: Southern Power Company.

Description: Application of Southern Power Company for authorization to issue securities under Section 204 of the Federal Power Act.

Filed Date: 9/10/15.

Accession Number: 20150910-5068.

Comments Due: 5 p.m. ET 10/1/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 10, 2015.
Nathaniel J. Davis, Sr.,
Deputy Secretary.

[FR Doc. 2015-23981 Filed 9-21-15; 8:45 am]

BILLING CODE 6717-01-P